DEPARTMENT OF TRANSPORTATION

Federal Aviation Administration

[Docket No. FAA-2001-11032]

Funding for Mandated Security Modifications to Flightcrew Compartment Doors

AGENCY: Federal Aviation Administration (FAA), DOT.

ACTION: Announcement of funding.

SUMMARY: This document announces changes to a program that allows partial reimbursement to passenger and cargo carrying operators for costs incurred following the events of September 11. Specifically, the reimbursement is for costs incurred by those operators required to comply with mandated security requirements for the flightcrew compartment doors. The program allow operators to choose how to use the funds to meet the modification requirements.

ADDRESSES: You may apply using the simplified application form found at http://www2.airweb.faa.gov/airplane_security/announce/htm

FOR FURTHER INFORMATION CONTACT: Dave Rich, Technical Programs and Continued Airworthiness Branch, Aircraft Certification Service, Federal Aviation Administration, 800 Independence Avenue, SW., Washington, DC 20591; telephone: (202) 267-7141; fax: 202-267-5340; e-mail address: 9-awa-avr-design@faa.gov.

SUPPLEMENTARY INFORMATION:

Background

Shortly after the September 11 events, the FAA announced the establishment of the Enhanced Airplane Security Program for airplanes with operating certificates issued under part 119 that conduct operations under part 121 as passenger carrying operations in common carriage (http://www2.airweb.faa.gov/airplane_security/announce.htm). The objective of the program is to enhance safety by improving flightdeck security on airplanes meeting the criteria as recommended by the Secretary of Transportation's Rapid Response Team on Aircraft Security. The program specifically authorizes the funds for security enhancements to the flightcrew compartment door, as well as transponder modifications and video cameras in the cabin.

The program required that all participants report their progress against a set of goals, identifying modifications by airplane types, the date when modified airplanes are returned to service, and the actual cost of work on a per aircraft basis, including labor and materials. Participants are required to maintain for 3 years accounting and financial records reflecting all project costs with supporting documents and records that will be sufficient for financial audit.

To ensure the funding is appropriately used, the FAA announced that funding would be dependent on the level of modification, i.e., from level 1-simple modification to level 5-installation of new doors, and that funding would be distributed as follows: 30% when the design is authorized, 40% after completion of the first airplane installation, and the final 30% after the modifications are installed in the last airplane.

Related Activity

In the 7 months since the initial funding announcement, the FAA mandated short-term security enhancements to the flighdeck compartment door in SFAR 92-3 (67 FR 2112, January 15, 2002) and retrofit installation of reinforced doors in Amendments 25-106 and 121-288 (67 FR 2118). The retrofit requires that the reinforced doors be installed by April 9, 2003. These rules eliminated the need to distinguish between the level 1 through level 5 modifications described above. These levels are no longer a part of the program.

In its economic evaluation of the door retrofit requirement, the FAA estimated that the direct cost of the reinforced door alone would be at least $17,000 per aircraft. The SFAR 92-3 enhancements are believed to have cost operators several thousand dollars more per aircraft. Congress appropriated $100 million to assist the operators in making the modifications. Based on that amount, the FAA has decided to reimburse $13,200 of cost for each of the 7,000 affected aircraft. If funding remains available or becomes available, the FAA may increase the amount of the reimbursement. Because the expenditures will exceed the funds available per aircraft, the FAA has decided that this change in its funding strategy is necessary.

For operators that have already submitted an application and received notification from the FAA, nothing else is required. The FAA will contact you if further information is needed. Operators that have not yet applied for reimbursement may apply using the simplified applications form located at: http://www2.airweb.faa.gov/airplane_security/announce.htm.

Prior to receiving funding, each operator will have to commit to spending the entire reimbursed amount on the mandated door modifications. Operators will also be required to substantiate the actual level of expenditures per airplane made under this program.

Issued in Washington, DC, on June 26, 2002.
John J. Hickey,
Director, Aircraft Certification Service.

[FR Doc. 02-16499 Filed 7-1-02; 8:45 am]

BILLING CODE 4910-13-M